DEPARTMENT OF THE INTERIOR

Fish and Wildlife Service

50 CFR Part 17

RIN 1018-AG73

Endangered and Threatened Wildlife and Plants; Designation of Critical Habitat for Holocarpha macradenia (Santa Cruz Tarplant)

AGENCY: Fish and Wildlife Service, Interior.

ACTION: Proposed rule; reopening of comment period and notice of availability of draft economic analysis.

SUMMARY: We, the U.S. Fish and Wildlife Service, announce the reopening of the comment period for the proposed designation of critical habitat for the Santa Cruz tarplant (Holocarpha macradenia), and the availability of the draft economic analysis for the proposed designation of critical habitat. We are reopening the comment period for this species to allow all interested parties to comment simultaneously on the proposed rule and the associated draft economic analysis. Comments previously submitted need not be resubmitted as they will be incorporated into the public record as part of this extended comment period and will be fully considered in the final rule.

DATES: We will accept public comments until June 6, 2002.

ADDRESSES: Written comments and information should be submitted to Field Supervisor, Ventura Fish and Wildlife Office, U.S. Fish and Wildlife Service, 2493 Portola Road, Suite B, Ventura, CA 93003. For the electronic mail address, and further instructions on commenting, refer to Public Comments Solicited section of this notice.

FOR FURTHER INFORMATION CONTACT: Connie Rutherford or Catrina Martin, Ventura Fish and Wildlife Office, U.S. Fish and Wildlife Service, telephone 805/644-1766; facsimile 805/644-3958.

SUPPLEMENTARY INFORMATION:

Background

Holocarpha macradenia (Santa Cruz tarplant) is an aromatic annual herb in the aster family (Asteraceae) that is restricted to coastal terrace prairie habitat along the coast of central California. Holocarpha macradenia is one of only four species of the genus Holocarpha. All four are geographically restricted to California. The plant grows to the height of 10 to 50 centimeters (cm) (4 to 20 inches (in)). The yellow daisy-like flower head is surrounded from beneath by individual bracts (small leaf-like structure associated with flower head). Holocarpha macradenia is distinguished from other members of the genus by its numerous ray flowers and black anthers. Holocarpha macradenia is threatened primarily by historic and recent habitat destruction caused by residential development and habitat alteration caused primarily by land management practices that favor the increase of other species which compete with Holocarpha macradenia. Holocarpha macradenia is currently known from approximately 14 native and 8 experimentally seeded populations in Contra Costa, Monterey, and Santa Cruz Counties.

On June 17, 1999, our failure to issue a final rule and to make a critical habitat determination for Santa Cruz tarplant (Holocarpha macradenia) was challenged in Southwest Center for Biological Diversity and California Native Plant Society v. Babbitt (Case No. C99-2992 (N.D.Cal.). Pursuant to the Endangered Species Act of 1973, as amended (Act) (16 U.S.C. 1531 et seq.), Holocarpha macradenia was listed as a threatened species on March 20, 2000 (65 FR 14898). On November 15, 2001, the proposed rule to designate critical habitat for Holocarpha macradenia was published in the Federal Register (66 FR 57526). The original comment period closed on January 14, 2002. We are reopening the comment period for an additional 30 days to allow all interested parties to comment simultaneously on the proposed rule and the associated draft economic analysis.

We have proposed to designate approximately 1,360 hectares (3,360 acres) in Contra Costa, Santa Cruz and Monterey Counties, California, as critical habitat for Holocarpha macradenia. Critical habitat receives protection from destruction or adverse modification through required consultation under section 7 of the Act with regard to actions carried out, funded, or authorized by a Federal agency. Section 4(b)(2) of the Act requires that we designate or revise critical habitat based upon the best scientific and commercial data available, after taking into consideration the economic or any other relevant impact of specifying any particular area as critical habitat. Based upon the previously published proposal to designate critical habitat for Holocarpha macradenia, we have prepared a draft economic analysis of the proposed critical habitat designation. The draft economic analysis is available on the Internet and from the mailing addresses in the Public Comments Solicited section below.

Public Comments Solicited

We will accept written comments and information during this reopened comment period. If you wish to comment, you may submit your comments and materials concerning this proposal by any of several methods:

(1) You may submit written comments and information to the Field Supervisor, Ventura Fish and Wildlife Office, U.S. Fish and Wildlife Service, 2493 Portola Road, Suite B, Ventura, CA 93003.

(2) You may send comments by electronic mail (e-mail) to: fws1sctarplant@r1.fws.gov. If you submit comments by e-mail, please submit them as an ASCII file and avoid the use of special characters and any form of encryption. Please also include “Attn: RIN 1018-AG73” and your name and return address in your e-mail message. If you do not receive a confirmation from the system that we have received your e-mail message, contact us directly by calling our Ventura Fish and Wildlife Office at telephone number 805/644-1766.

(3) You may hand-deliver comments to our Ventura Fish and Wildlife Office at the address given above.

Comments and materials received, as well as supporting documentation used in preparation of the proposal to designate critical habitat, will be available for inspection, by appointment, during normal business hours at the address under (1) above. Copies of the draft economic analysis are available on the Internet at www.r1.fws.gov/news or by writing to the Manager at the address under (1) above.

Author

The primary author of this notice is Catrina Martin (see ADDRESSES section).

Authority: The authority for this action is the Endangered Species Act of 1973 (16 U.S.C. 1531 et seq.).

Dated: April 24, 2002.
Craig Manson,
Assistant Secretary for Fish and Wildlife and Parks.

[FR Doc. 02-11001 Filed 5-6-02; 8:45 am]

BILLING CODE 4310-55-P